DEPARTMENT OF ENERGY

Environmental Management Site-Specific Advisory Board, Paducah

AGENCY: Department of Energy.

ACTION: Notice of Open Meeting: Correction.

SUMMARY: On April 29, 2013, the Department of Energy (DOE) published a notice of open meeting announcing a meeting on May 16, 2013 of the Environmental Management Site-Specific Advisory Board, Paducah (78 FR 25064). This document makes a correction to that notice.

FOR FURTHER INFORMATION CONTACT: Rachel Blumenfeld, Deputy Designated Federal Officer, Department of Energy Paducah Site Office, Post Office Box 1410, MS-103, Paducah, Kentucky 42001, (270) 441-6806.

Correction

In the Federal Register of April 29, 2013, in FR Doc. 2013-10035, on page 25064, please make the following correction:

In that notice under DATES, second column, second paragraph, the meeting time has been changed. The new time is 5:30 p.m. instead of 6:00 p.m.

Issued at Washington, DC, on May 2, 2013.
LaTanya R. Butler,
Deputy Committee Management Officer.

[FR Doc. 2013-10795 Filed 5-6-13; 8:45 am]

BILLING CODE 6450-01-P